DEPARTMENT OF TRANSPORTATION

Federal Aviation Administration

14 CFR Part 39

[Docket No. FAA-2023-1806; Project Identifier MCAI-2023-00934-Q; Amendment 39-22535; AD 2023-17-09]

RIN 2120-AA64

Airworthiness Directives; Cameron Balloons Ltd. Fuel Cylinders

AGENCY: Federal Aviation Administration (FAA), DOT.

ACTION: Final rule; request for comments.

SUMMARY: The FAA is superseding Airworthiness Directive (AD) 2022-13-03, which applied to a certain Cameron Balloons Ltd. (Cameron) fuel cylinder installed on hot air balloons. AD 2022-13-03 required removing any installed fuel cylinder part number (P/N) CB2990 (Alugas) from service before further flight. Since the FAA issued AD 2022-13-03, the fuel cylinder part number has been identified as CB2990/A instead of CB2990 (Alugas). This AD requires removing any installed fuel cylinders P/N CB2990/A from service before further flight. The FAA is issuing this AD to address the unsafe condition on these products.

DATES: This AD is effective September 13, 2023.

The FAA must receive comments on this AD by October 13, 2023.

ADDRESSES: You may send comments, using the procedures found in 14 CFR 11.43 and 11.45, by any of the following methods:

• Federal eRulemaking Portal: Go to regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2023-1806; or in person at Docket Operations between 9 a.m. and 5 p.m., Monday through Friday, except Federal holidays. The AD docket contains this final rule, the mandatory continuing airworthiness information (MCAI), any comments received, and other information. The street address for Docket Operations is listed above.

• For service information identified in this final rule, contact Cameron Balloons Ltd., St Johns Street, Bedminster, Bristol, BS3 4NH, United Kingdom; phone: +44 0 117 9637216; email: technical@cameronballoons.co.uk; website: cameronballoons.co.uk. You may view this service information at the FAA, Airworthiness Products Section, Operational Safety Branch, 901 Locust Street, Kansas City, MO 64106. For information on the availability of this material at the FAA, call (817) 222-5110. It is also available at regulations.gov under Docket No. FAA-2023-1806.

FOR FURTHER INFORMATION CONTACT: Fred Guerin, Aviation Safety Engineer, FAA, 1600 Stewart Avenue, Suite 410, Westbury, NY 11590; phone: (206) 231-2346; email: fred.guerin@faa.gov.

SUPPLEMENTARY INFORMATION:

Comments Invited

The FAA invites you to send any written data, views, or arguments about this final rule. Send your comments to an address listed under ADDRESSES. Include “Docket No. FAA-2023-1806; Project Identifier MCAI-2023-00934-Q” at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent Fred Guerin, Aviation Safety Engineer, FAA, 1600 Stewart Avenue, Suite 410, Westbury, NY 11590. Any commentary that the FAA receives which is not specifically designated as CBI will be placed in the public docket for this rulemaking.

Background

The FAA issued AD 2022-13-03, Amendment 39-22089 (87 FR 36053, June 15, 2022) (AD 2022-13-03), for a certain Cameron fuel cylinder installed on hot air balloons. AD 2022-13-03 was prompted by MCAI originated by the Civil Aviation Authority (CAA), which is the airworthiness authority for the United Kingdom (UK). The UK CAA issued Emergency AD G-2022-0010-E, dated May 12, 2022, to correct an unsafe condition identified as cracks in the weld between the cylinder valve plate and the upper dished end of Cameron fuel cylinder part number (P/N) CB2990 (Alugas). AD 2022-13-03 required removing any installed fuel cylinder P/N CB2990 (Alugas) from service before further flight. The FAA issued AD 2022-13-03 to prevent uncontrolled fuel leakage of liquid propane. The unsafe condition, if not addressed, could lead to fire or explosion and consequent emergency landing.

Actions Since AD 2022-13-03 Was Issued

Since the FAA issued AD 2022-13-03, the UK CAA superseded Emergency AD G-2022-0010-E, dated May 12, 2022, and issued UK CAA Emergency AD G-2023-0005-E, dated July 31, 2023, (referred to after this as “the MCAI”). The MCAI identifies the fuel cylinder part number as CB2990/A instead of CB2990 (Alugas), references a re-design of the fuel cylinder to P/N CB2990-B, and requires removing fuel cylinder P/N CB2990/A from service.

You may examine the MCAI in the AD docket at regulations.gov under Docket No. FAA-2023-1806.

FAA's Determination

These products have been approved by the aviation authority of another country and are approved for operation in the United States. Pursuant to the FAA's bilateral agreement with this State of Design Authority, it has notified the FAA of the unsafe condition described in the MCAI referenced above. The FAA is issuing this AD after determining that the unsafe condition described previously is likely to exist or develop on other products of the same type design.

AD Requirements

This AD retains no requirements of AD 2022-13-13. This AD requires, before further flight, removing any installed fuel cylinder P/N CB2990/A from service.

Differences Between This AD and the MCAI

The MCAI applies to hot air balloons and certain airships. This AD only applies to hot air balloons because the airships identified in the MCAI do not have an FAA type certificate.

Although the MCAI specifies emptying the removed fuel cylinder, this AD does not require this action. While this action is encouraged for the general safety related to the leakage of liquid propane from these fuel cylinders once they have been removed from the balloon, those actions are not required to address the unsafe condition identified in this AD.

Justification for Immediate Adoption and Determination of the Effective Date

Section 553(b)(3)(B) of the Administrative Procedure Act (APA) (5 U.S.C. 551 et seq.) authorizes agencies to dispense with notice and comment procedures for rules when the agency, for “good cause,” finds that those procedures are “impracticable, unnecessary, or contrary to the public interest.” Under this section, an agency, upon finding good cause, may issue a final rule without providing notice and seeking comment prior to issuance. Further, section 553(d) of the APA authorizes agencies to make rules effective in less than thirty days, upon a finding of good cause.

An unsafe condition exists that requires the immediate adoption of this AD without providing an opportunity for public comments prior to adoption. The FAA has found that the risk to the flying public justifies forgoing notice and comment prior to adoption of this rule because a liquid propane leak on the fuel cylinder could lead to an in-flight fire or explosion, damaging the hot air balloon and leading to a forced emergency landing, which could injure balloon occupants and persons on the ground. Additionally, the corrective actions must be accomplished before further flight. Accordingly, notice and opportunity for prior public comment are impracticable and contrary to the public interest pursuant to 5 U.S.C. 553(b)(3)(B).

In addition, the FAA finds that good cause exists pursuant to 5 U.S.C. 553(d) for making this amendment effective in less than 30 days, for the same reasons the FAA found good cause to forgo notice and comment.

Regulatory Flexibility Act

The requirements of the Regulatory Flexibility Act (RFA) do not apply when an agency finds good cause pursuant to 5 U.S.C. 553 to adopt a rule without prior notice and comment. Because FAA has determined that it has good cause to adopt this rule without prior notice and comment, RFA analysis is not required.

Costs of Compliance

The FAA estimates that this AD affects 696 fuel cylinders installed on hot air balloons worldwide. The FAA has no way of knowing the number of hot air balloons of U.S. Registry that may have an affected fuel cylinder installed. The estimated cost on U.S. operators reflects the maximum possible cost based on fuel cylinders worldwide. The average labor rate is $85 per work-hour.

The FAA estimates that removing the affected fuel cylinder will take 1 work-hour costing $85, for a cost of up to $59,160 for the U.S. fleet. The FAA estimates that installing a non-affected fuel cylinder will take 1 work-hour costing $85 and will cost $3,200 per fuel cylinder, for a cost of up to $2,286,360 for the U.S. fleet.

Authority for This Rulemaking

Title 49 of the United States Code specifies the FAA's authority to issue rules on aviation safety. Subtitle I, section 106, describes the authority of the FAA Administrator. Subtitle VII, Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866, and

(2) Will not affect intrastate aviation in Alaska.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive 2022-13-03, Amendment 39-22089 (87 FR 36053, June 15, 2022); and

b. Adding the following new airworthiness directive:

2023-17-09 Cameron Balloons Ltd.: Amendment 39-22535; Docket No. FAA-2023-1806; Project Identifier MCAI-2023-00934-Q.

(a) Effective Date

This airworthiness directive (AD) is effective September 13, 2023.

(b) Affected ADs

This AD replaces AD 2022-13-03, Amendment 39-22089 (87 FR 36053, June 15, 2022).

(c) Applicability

(1) This AD applies to hot air balloons, certificated in any category, equipped with a Cameron Balloons Ltd. fuel cylinder part number (P/N) CB2990/A (the affected fuel cylinder).

(2) The affected fuel cylinder may be installed on hot air balloon models including, but not limited to, those of the following design approval holders:

(i) Aerostar International, Inc.;

(ii) Ballonbau Worner GmbH;

(iii) Balóny Kubíček spol. s.r.o.;

(iv) Cameron Balloons Ltd.;

(v) Eagle Balloons Corp.;

(vi) JR Aerosports, Ltd. (type certificate previously held by Sundance Balloons (US));

(vii) Lindstrand Balloons Ltd.; and

(viii) Michael D. McGrath (type certificate subsequently transferred to Andrew Philip Richardson, Adams Aerostats LLC).

(d) Subject

Joint Aircraft System Component (JASC) Code: 2810, Fuel Storage.

(e) Unsafe Condition

This AD was prompted by cracks in the weld between the cylinder valve plate and the upper dished end of Cameron Balloons Ltd. fuel cylinder P/N CB2990/A. The FAA is issuing this AD to prevent uncontrolled fuel leakage of liquid propane. The unsafe condition, if not addressed, could lead to fire or explosion and consequent emergency landing.

(f) Compliance

Comply with this AD within the compliance times specified, unless already done.

(g) Required Actions

Before further flight after the effective date of this AD, remove the affected fuel cylinder from service.

Note 1 to paragraph (g): Cameron Balloons Alert Service Bulletin No. 33, Revision 2, dated June 2023, contains information related to this AD, including reference to a replacement fuel cylinder P/N CB2990-B.

(h) Special Flight Permits

Special flight permits are prohibited.

(i) Alternative Methods of Compliance (AMOCs)

The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (j)(2) of this AD and email to: 9-AVS-AIR-730-AMOC@faa.gov. If mailing information, also submit information by email. Before using any approved AMOC, notify your appropriate principal inspector, or lacking a principal inspector, the manager of the local flight standards district office.

(j) Additional Information

(1) Refer to United Kingdom (UK) Civil Aviation Authority (CAA) Emergency AD G-2023-0005-E, dated July 31, 2023, for related information. This UK CAA AD may be found in the AD docket at regulations.gov under Docket No. FAA-2023-1806.

(2) For more information about this AD, contact Fred Guerin, Aviation Safety Engineer, FAA, 1600 Stewart Avenue, Suite 410, Westbury, NY 11590; phone: (206) 231-2346; email: fred.guerin@faa.gov.

(3) For service information identified in this AD that is not incorporated by reference, contact Cameron Balloons Ltd., St Johns Street, Bedminster, Bristol, BS3 4NH, United Kingdom; phone: +44 0 117 9637216; email: technical@cameronballoons.co.uk; website: cameronballoons.co.uk.

(k) Material Incorporated by Reference

None.

Issued on August 24, 2023.
Victor Wicklund,
Deputy Director, Compliance & Airworthiness Division, Aircraft Certification Service.

[FR Doc. 2023-18700 Filed 8-25-23; 11:15 am]

BILLING CODE 4910-13-P